DEPARTMENT OF LABOR

Occupational Safety and Health Administration

[Docket No. OSHA-H022k-2006-0062]

Preparations for the 27th Session of the UN Sub-Committee of Experts on the Globally Harmonized System of Classification and Labelling of Chemicals (UNSCEGHS)

AGENCY: Occupational Safety and Health Administration (OSHA), Department of Labor.

ACTION: Notice of public meeting.

SUMMARY: This notice is to advise interested persons that on Wednesday, June 11, 2014, OSHA will conduct a public meeting to discuss proposals in preparation for the 27th session of the United Nations Sub-Committee of Experts on the Globally Harmonized System of Classification and Labelling of Chemicals (UNSCEGHS) to be held July 2 to 4, 2014 in Geneva, Switzerland. OSHA, along with the U.S. Interagency GHS (Globally Harmonized System of Classification and Labelling of Chemicals) Coordinating Group, plans to consider the comments and information gathered at this public meeting when developing the U.S. Government positions for the UNSCEGHS meeting.

Also, on Wednesday, June 11, 2014, the Department of Transportation (DOT), Pipeline and Hazardous Materials Safety Administration (PHMSA) will conduct a public meeting (See Docket No. PHMSA-2014-0033) to discuss proposals in preparation for the 45th session of the United Nations Sub-Committee of Experts on the Transport of Dangerous Goods (UNSCOE TDG) to be held June 23 to July 2, 2014, in Geneva, Switzerland.

DATES: Wednesday, June 11, 2014.

ADDRESSES: Both meetings will be held at the DOT Headquarters Conference Center, West Building, 1200 New Jersey Avenue SE., Washington, DC 20590.

Time and Location:

PHMSA public meeting: 8:30 a.m. to 11:30 a.m. EDT, Oklahoma Room.

OSHA public meeting: 1:00 p.m. to 4:00 p.m. EDT, Conference Room 3.

Registration: It is requested that attendees pre-register for these meetings by completing the form at: https://www.surveymonkey.com/s/PNCPBQD. Attendees may use the form to pre-register for the OSHA meeting, the PHMSA meeting, or both meetings. Failure to pre-register may delay your access to the DOT building. Participants attending in person are encouraged to arrive early to allow time for security checks necessary to obtain access to the building.

Conference call-in and “live meeting” capability will be provided for both meetings. Specific information on call-in and live meeting access will be posted when available at:

http://www.osha.gov/dsg/hazcom/ and at:

http://www.phmsa.dot.gov/hazmat/regs/international.

FOR FURTHER INFORMATION CONTACT: Maureen Ruskin, Office of Chemical Hazards-Metals, OSHA Directorate of Standards and Guidance, Department of Labor, Washington DC 20210: telephone: (202) 693-1950, email: ruskin.maureen@dol.gov.

SUPPLEMENTARY INFORMATION: The OSHA Meeting: OSHA is hosting an open informal public meeting of the U.S. Interagency GHS Coordinating Group to provide interested groups and individuals with an update on GHS-related issues and an opportunity to express their views orally and in writing for consideration in developing U.S. Government positions for the upcoming UNSCEGHS meeting. Interested stakeholders may also provide input on issues related to OSHA's activities in the U.S.—Canada Regulatory Cooperation Council (RCC) at the meeting.

General topics on the agenda include:

• Review of Working papers

• Correspondence Group updates

• Regulatory Cooperation Council (RCC) Update

Information on the work of the UNSCEGHS including meeting agendas, reports, and documents from previous sessions, can be found on the United Nations Economic Commission for Europe (UNECE) Transport Division Web site located at the following web address: http://www.unece.org/trans/welcome.html. The UNSCEGHS bases its decisions on Working Papers. The Working Papers for the 27th session of the UNSCEGHS are located at http://www.unece.org/trans/main/dgdb/dgsubc4/c42014.html. Informal Papers submitted to the UNSCEGHS provide information for the subcommittee and are used either as a mechanism to provide information to the subcommittee or as the basis for future Working Papers. Informal Papers for the 27th session of the UNSCEGHS are located at http://www.unece.org/trans/main/dgdb/dgsubc4/c4inf27.html.

The PHMSA Meeting: The Federal Register notice and additional detailed information relating to PHMSA's public meeting will be available upon publication at http://www.regulations.gov (Docket No. PHMSA-2014-0033) and on the PHMSA Web site at: http://www.phmsa.dot.gov/hazmat/regs/international.

Authority and Signature

This document was prepared under the direction of David Michaels, Ph.D., MPH, Assistant Secretary of Labor for Occupational Safety and Health, U.S. Department of Labor, under the authorization granted by the Secretary's Order 1-2012 (77 FR 3912, Jan. 25, 2012).

Signed at Washington, DC, on April 29, 2014.
David Michaels,
Assistant Secretary of Labor for Occupational Safety and Health.

[FR Doc. 2014-10103 Filed 5-1-14; 8:45 am]

BILLING CODE 4510-26-P